FEDERAL EMERGENCY MANAGEMENT AGENCY

[FEMA-1355-DR]

Oklahoma; Amendment No. 3 to Notice of a Major Disaster Declaration

AGENCY: Federal Emergency Management Agency (FEMA).

ACTION: Notice.

SUMMARY: This notice amends the notice of a major disaster for the State of Oklahoma, (FEMA-1355-DR), dated January 5, 2001, and related determinations.

EFFECTIVE DATE: January 18, 2001.

FOR FURTHER INFORMATION CONTACT: Madge Dale, Response and Recovery Directorate, Federal Emergency Management Agency, Washington, DC 20472, (202) 646-3772.

SUPPLEMENTARY INFORMATION: The notice of a major disaster for the State of Oklahoma is hereby amended to include Categories C through G under the Public Assistance program in the following areas among those areas determined to have been adversely affected by the catastrophe declared a major disaster by the President in his declaration of January 5, 2001:

Adair, Atoka, Bryan, Carter, Cherokee, Choctaw, Cleveland, Coal, Cotton, Creek, Garvin, Grady, Haskell, Hughes, Jefferson, Johnston, Latimer, Le Flore, Lincoln, Love, Marshall, McClain, McCurtain, McIntosh, Murray, Muskogee, Okfuskee, Oklahoma, Okmulgee, Pittsburg, Pontotoc, Pottawatomie, Pushmataha, Seminole, Sequoyah, Stephens, Tulsa, Wagoner, and Washington Counties for Categories C through G under the Public Assistance program (already designated for Individual Assistance, debris removal, and emergency protective measures (Categories A and B), including direct Federal assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Lacy E. Suiter,
Executive Associate Director, Response and Recovery Directorate.

[FR Doc. 01-2444 Filed 1-26-01; 8:45 am]

BILLING CODE 6718-02-P